DEPARTMENT OF COMMERCE

National Oceanic and Atmospheric Administration

[RTID 0648-XC732]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the applicant. Regulations under the Magnuson-Stevens Fishery Conservation and Management Act require publication of this notification to provide interested parties the opportunity to comment on applications for proposed EFPs.

DATES: Comments must be received on or before February 17, 2023.

ADDRESSES: You may submit written comments by the following method:

• Email: nmfs.gar.efp@noaa.gov. Include in the subject line “6-Inch Gillnet Mesh Exploratory Fishing.”

FOR FURTHER INFORMATION CONTACT: Spencer Talmage, Fishery Policy Analyst, Spencer.Talmage@noaa.gov, (978) 281-9232.

SUPPLEMENTARY INFORMATION: The applicant submitted a complete application for an EFP to conduct commercial fishing activities that the regulations would otherwise restrict. This EFP would exempt the participating vessels from the following Federal regulations:

Table 1—Requested Exemptions
Citation | Regulation | Need for exemption
50 CFR 648.80(a)(3)(iv)(B)(1) | Minimum mesh size for Trip Gillnet Vessels in the Gulf of Maine | Needed to deploy 6-inch gillnet gear in Gulf of Maine.

Table 2—Project Summary
Project title | 6-Inch Gillnet Mesh Exploratory Fishing.
Applicant | Northeast Sector Services Network.
Project objectives | Evaluate the efficacy of smaller mesh gillnet for haddock, without increasing catch of cod.
Application date | November 22, 2022.
Project period | January 2023—May 31, 2023.
Project location | Gulf of Maine.
Number of vessels | 1.
Number of trips | 20-30.
Trip duration (days) | 2-3.
Total number of days | 40-90 days.
Gear type(s) | Gillnet, 6 inch (15.24-cm) mesh.
Number of tows or sets | 20-30.
Duration of tows or sets | 24 hours.

Project Narrative

The proposed EFP is a continuation of a project conducting exploratory fishing in the Gulf of Maine (GOM) that mimics the structure of the GOM Sink Gillnet Mesh Exemption originally approved for sectors from fishing years 2010 through 2012. In fishing year 2013, NMFS disapproved the exemption due to concerns regarding the status of the GOM haddock stock, which at the time was subject to overfishing and approaching an overfished condition. The proposed EFP would provide preliminary catch data to inform future studies to test the feasibility of using the 6-inch (15.24-cm) gillnet gear to target haddock while minimizing catch of GOM cod.

From issuance to May 31, 2023, the participating vessel would conduct between 20 and 30 trips under the EFP in the GOM Regulated Mesh Area during which it would make 20-30 hauls with 6-inch (15.24-cm) mesh gillnet gear. The maximum number of individual nets that could be deployed is 75. Gillnets would be set for a soak of up to 24 hours, and would be actively tended by the vessel (i.e., the vessel would not leave the fishing grounds while nets are deployed).

A Northeast Fisheries at-sea monitor or observer would be deployed on all groundfish trips taken under the EFP. The participating vessel would use the Pre-Trip Notification System to identify groundfish trip taken under the EFP. Trips would be eligible for natural selection for observer coverage for either the Northeast Fisheries Observer Program or the At-Sea Monitoring program. Trips not naturally selected for observer coverage would not be reimbursable from Federal appropriations.

Allowable discards would be discarded at-sea, while all other species would be retained, landed, and processed per normal commercial fishing procedures. Monitors would document all discards of allocated sub-legal catch.

While on EFP trips, the vessel may also occasionally deploy a small amount of longline and 6.5-inch (16.51-cm) mesh gillnet gear, in order to generate catch composition data that could be used to compare the catchability of the 6-inch (15.24-cm) mesh gear with other gears used on a normal fishing trip. The gillnet gear would consist of 12 to 24 nets in a single string, while the longline gear would have between 1,000 and 2,400 hooks. All groundfish catch, including both discards and landings, would be deducted from the appropriate sector allocation.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: January 30, 2023.
Jennifer M. Wallace,
Acting Director, Office of Sustainable Fisheries, National Marine Fisheries Service.

[FR Doc. 2023-02167 Filed 2-1-23; 8:45 am]

BILLING CODE 3510-22-P